POSTAL SERVICE

39 CFR Part 111

New Mailing Standards for Domestic Mailing Services Products

AGENCY: Postal Service™.

ACTION: Final rule.

SUMMARY: In October 2012, the Postal Service filed a notice of mailing services price adjustments with the Postal Regulatory Commission (PRC), effective in January 2013. This final rule contains the revisions to Mailing Standards of the United States Postal Service, Domestic Mail Manual (DMM®) that we will adopt to implement the changes coincident with the price adjustments.

DATES: Effective date: January 27, 2013.

FOR FURTHER INFORMATION CONTACT: Bill Chatfield, 202-268-7278.

SUPPLEMENTARY INFORMATION: Prices will be available under Docket Number R2013-1 on the Postal Regulatory Commission's Web site at www.prc.gov. The Postal Service's final rule includes a summary of comments received and responses to those comments, several mail classification changes, modifications to mailpiece characteristics, and changes in classification terminology.

Comments

Summary

The Postal Service received nine formal responses to our proposed rule as comments, two of which included comments about more than one issue. There were three responses by mailers, two by vendors, and four by associations.

Changes to Proposed Revisions

One comment by an association requested that the USPS™ withdraw a proposed change that would limit the extrusion of an insert; that change has been withdrawn. Three comments regarding wrappers on Periodicals requested that the proposed change to require a return address on all copies with wrappers be limited to opaque wrappers; that change has been modified to only apply to opaque wrappers.

Clarifications

It was requested that we clarify that the minimum number of 300 pieces per route and the rule that multiple pieces per delivery address can count toward the new high density plus prices will apply to both Standard Mail® letters and flats; that will be the case.

It was requested that we clarify the names for Standard Mail parcels. There will be Marketing parcels, mailable at presorted (noncarrier route) prices. There will continue to be irregular and machinable parcels mailable only at Nonprofit prices. Carrier route parcels will be called Product Samples (or Simple Samples).

One response questioned if the new handling charges for inbound First-Class Mail® will apply to First-Class Mail nonmachinable letters. Nonmachinable letters are not authorized for this entry. The Postal Service's current plan is for the handling charge to apply only to First-Class Mail Machinable Letters, Single-Piece Postcards, Single-Piece Flats, and Parcels under an authorization arrangement between the Postal Service and a foreign postal operator. A more complete response can be found at this link, starting on page 23: http://prc.gov/Docs/85/85452/CHIR%20No1%20Response%20Final.pdf.

New Price for Residual Single-Piece First-Class Mail Letters Up to Two Ounces

There were five comments about the new price for single-piece residual First-Class Mail letters weighing up to two ounces that are intended to be part of an automation or presorted mailing, but are not presorted. One response suggested that one price should be provided for all First-Class Mail letters over an ounce. The other four responses indicated displeasure with the new price that will be two cents more than the retail First-Class Mail single-piece one-ounce letter price, but 18 cents less than the retail First-Class Mail two-ounce letter price. The Postal Service notes, however, that the uniform price for residual letters was developed to address mailer claims that it was impractical to prepare one-ounce pieces separate from two-ounce pieces. For mailers who wish to separate out the one-ounce from the two-ounce letters and not submit mixed trays of one-ounce and two-ounce pieces, such mail would be able to be presented separately with a separate postage statement. The one-ounce pieces in a separate tray would be charged a 46-cent per-piece price and the two-ounce pieces in a separate tray would pay a 66-cent per-piece price.

Advance Notice of a New Single-Piece Letter Price for Metered Mail

There were three comments about the advance notice of a possible new price for single-piece metered letter mail. Two customers appreciated the consideration; the other customer suggested that the new price apply also to letters with PCPostage® with IBI, and also advocated another lower price for nonpresorted letters with Intelligent Mail barcodes and CASS-certified addresses. The comments will be considered as this initiative develops.

General

Several responses noted appreciation for prior discussions of some of the proposed changes, but also noted that there were some surprise proposals. Suggestions were made to encourage the USPS to be involved in detailed discussion with mailers prior to any substantive future proposals. While we appreciate the challenges of fully understanding what is going to be proposed before it is filed with the PRC, the USPS declines to share pricing or price cells until the actual filing. It is noted that the structural changes are shared in advance with the mailing and vendor community as part of the ongoing dialogue with many groups.

Change for Letters

Commercial First-Class Mail Letters

The pricing structure for presorted and automation First-Class Mail letters retains the change implemented in 2012 for the minimum postage charge to be that for a 2-ounce letter, and extends the concept to residual single-piece letters that are part of the same mailing job and presented at the same time as the presorted or automation mailing. There will be a new price for residual letters up to 2 ounces, which is different than the price for single-piece letters presented as a stand-alone mailing.

Standard Mail Letters

We add a new price tier for high density letters. In addition to the current high density tier which requires a minimum of 125 pieces per carrier route, the new tier (high density plus) requires a minimum of 300 pieces per carrier route.

Changes for Flats

Standard Mail Flats

We add a new price tier for high density flats. In addition to the current high density tier which requires a minimum of 125 pieces per carrier route, the new tier (high density plus) requires a minimum of 300 pieces per carrier route.

Changes for Letters and Flats

Preparing Residual Mail From First-Class Mail and Standard Mail Mailings

We revise DMM 235.0, 245.0, 335.0, 345.0, and 705.8.0 to provide new standards for the preparation of pallets, trays, and sacks of First-Class Mail or Standard Mail letters and flats.

The Postal Service continuously reviews the processes and requirements related to the preparation and entry of mail from commercial mailers. In this regard, the Postal Service, working in collaboration with the commercial mailing industry, has identified areas for improved mutual efficiencies from minor changes to its mail preparation standards. These specific revisions were offered by members of the mailing community, adopted and implemented as optional standards in the context of a Postal Bulletin article (22344, August 23, 2012), and incorporated into the DMM on September 4, 2012. The Postal Service now adopts these current options as mandatory preparation standards.

These changes generally require mailers to place trays or sacks of residual single-piece First-Class Mail letters and flats on an origin sectional center facility (SCF) pallet; and to place trays or sacks of residual Standard Mail letters and flats, paid at the single-piece First-Class Mail prices, on a mixed network distribution center (NDC) pallet. The Postal Service also requires use of new human-readable texts linked to several existing content identifier number (CIN) codes that specifically identify single-piece mailpieces. This requires barcoded labels for trays of residual pieces, and new text on origin SCF pallet placards (identifying this pallet level as a working pallet).

No Additional Entry Fees for Periodicals

We change the designation “additional entry” to “additional mailing offices” and eliminate the fees for Periodicals publications to be mailed in multiple locations. Approved Periodicals will be able to mail at any Post Office™ with PostalOne!® access.

Change in Advertising Percentage Allowed for Periodicals Requester Publications

Requester publications will be permitted to exceed 75% advertising in no more than 25% of the issues produced in any 12-month period. This will allow publishers greater advertising flexibility during high advertising volume periods.

Endorsements on Mailing Wrappers for Periodicals

We clarify that the term “mailing wrapper” includes all types of packaging used to enclose Periodicals publications, by adding “carton” to the definition of mailing wrapper. We also extend the return address requirement to all pieces with opaque wrappers because all Periodicals receive a type of address correction. These revisions will ensure processing the pieces as Periodicals and eliminate the need to open the items when the mailpiece must be forwarded or returned.

Changes for Parcels

Parcel Post® Now Standard Post™

Parcel Post has become a competitive product, excluding Alaska Bypass. Parcel Post will only be offered at retail in January 2013, and is renamed as Standard Post. Mail currently eligible for Alaska Bypass Service, which is part of the Postal Service's current Parcel Post product, will be retained as a market-dominant product and will be named “Alaska Bypass Service.” Information about Alaska Bypass Service may be found in USPS Handbook PO 508, accessible on usps.com.

Standard Mail Marketing Parcels, Including Product Samples

Prices for marketing parcels are designed for parcels containing information and/or product samples with the purposes of encouraging recipients to purchase a product or service, make a contribution, support a cause, form a belief or opinion, take an action, or obtain information. Standard Mail Marketing parcels will be mailable at Presorted prices only, except for the new category of Product Samples (also known as Simple Samples), which will be mailable at targeted (similar to the current basic carrier route) or saturation (Every Door) prices. Marketing parcels in general continue to have a maximum size of 12 inches by 9 inches by 2 inches thick.

Product Sample parcels, like other marketing parcels, must be addressed using an alternative addressing format. In addition, each parcel in a mailing of Product Sample parcels must be of identical size and weight. Within each of the price categories—targeted and saturation—there will be separate prices for small samples and for large samples. Saturation parcels must bear simplified addresses and be sorted by route. Detached address labels (DALs) must be used with targeted parcels, and must be sorted by carrier route. There is no additional charge per DAL. DALs are optional with saturation parcels, and there will be an additional charge for each DAL (including detached marketing labels or DMLs).

Special, Extra, and Other Services

Certificate of Bulk Mailing—Fee Payment

Effective August 6, 2012, the Postal Service revised DMM 503.5 to allow mailers paying postage by permit imprint to report identical weight pieces on PS Form 3606, Certificate of Bulk Mailing. For January 27, 2013, the Postal Service allows mailers paying postage for the pieces reported on a PS Form 3606 by permit imprint to also pay for the fees by permit imprint.

Delivery Confirmation

We revise the DMM to expand acceptable terminology being allowed for Delivery Confirmation™ service to include USPS Tracking/Delivery Confirmation. This provides clarification to mailers who use privately printed forms, create integrated labels, or who may receive an applicable tracking label affixed to their packages at retail Post Offices, station or branches, that the text is acceptable in either format.

Return Receipts

Current DMM standards permit customers to request proof of delivery via mail, fax, email, or electronically when an electronic return receipt is purchased at the time of mailing or via mail, fax, or email when PS Form 3811-A, Request for Delivery Information/Return Receipt After Mailing is requested. The Postal Service will restrict the service provided for electronic return receipts purchased at the time of mailing by discontinuing the options to obtain electronic records by fax, mail or on CD-Rom (for Bulk Proof of Delivery) and for return receipts purchased after mailing by discontinuing the option to obtain proof of delivery signature data by fax. Customers will receive proof of delivery signature data by email for electronic return receipts purchased at the time of mailing, and by email or a PS Form 3811-A by mail for return receipts purchased after mailing. Customers will continue to be able to purchase a return receipt (PS Form 3811) at the time of mailing and receive the `green card' receipt with delivery signature by mail.

The Postal Service has reviewed data about customer usage of proof of delivery services and the associated system work and time necessary to provide proof of delivery letters by fax, by mail, or in bulk on CD-Rom. Year-to-date data show that approximately 95.8% (up from 91.6% last fiscal year) of customers receive the proof of delivery record by email.

Approximately 97.2% of our customers that receive bulk proof of delivery records electronically receive their records weekly via signature extract file format, instead of bi-monthly by CD-Rom. The cost of the CD-Roms is not included in the price of the service, and the additional work required in addition to maintaining the signature extract file format is currently absorbed by the Postal Service. These revisions help the Postal Service reduce costs and improve the turnaround time for delivery records to be received by our customers.

Registered Mail™ and COD—Where To File Claims for Indemnity

We are extending the online claims function to allow customers filing claims for indemnity for domestic Registered Mail or COD articles the option of filing online at www.usps.com/insuranceclaims/online.htm.

IMb Tracing™

We are removing language concerning the old Confirm® service from DMM 503.15.0, because all Confirm subscriptions will end by January of 2013. IMb Tracing now provides a service similar to the old Confirm service.

Picture Permit Imprint Indicia

Effective June 24, 2012, the Postal Service introduced picture permit imprint indicia standards allowing customers to include business-related color images, such as corporate logos, company brand, or trademarks, in the permit indicia area on commercial mailings of IMb™ full-service automation First-Class Mail letters and postcards, and of IMb full-service automation Standard Mail automation letters, for a per-piece fee in addition to postage.

For January 27, 2013, we expand picture permit imprint indicia standards to also allow its use on First-Class Mail and Standard Mail flats prepared under the IMb full-service automation option. Mailers interested in picture permit imprint indicia may contact picturepermit@usps.com by email for more information.

Official Mail (Franked and Penalty)

The Postal Service™ will revise DMM 703.7.0 to remove obsolete standards for the use of official mail such as the need for PS Form 3602-G, references to INTELPOST, and the use of penalty mail stamps.

Advance Notice

The Postal Service is considering the proposal next year of a separate price category for single-piece First-Class Mail metered letters with prices that may be different than other single-piece First-Class Mail letter prices. The Postal Service plans to conduct market research to evaluate various price points for single-piece stamped and metered mail before offering this price differentiation.

The Postal Service adopts the following changes to Mailing Standards of the United States Postal Service, Domestic Mail Manual (DMM), which is incorporated by reference in the Code of Federal Regulations. See 39 CFR 111.1.

List of Subjects in 39 CFR Part 111

Administrative practice and procedure, Postal Service.

Accordingly, 39 CFR part 111 is amended as follows:

PART 111—[AMENDED]

1. The authority citation for 39 CFR part 111 continues to read as follows:

Authority: 5 U.S.C. 552(a); 13 U.S.C 301-307; 18 U.S.C. 1692-1737; 39 U.S.C. 101, 401, 403, 404, 414, 416, 3001-3011, 3201-3219, 3403-3406, 3621, 3622, 3626, 3632, 3633, and 5001.

2. Revise the following sections of the Mailing Standards of the United States Postal Service, Domestic Mail Manual (DMM), as follows:

Mailing Standards of the United States Postal Service, Domestic Mail Manual (DMM)

* * * * *

200 Commercial Letters and Cards

* * * * *

230 First-Class Mail

233 Prices and Eligibility

1.0 Prices and Fees for First-Class Mail

* * * * *

1.2 Price Computation for First-Class Mail Letters

[Revise the text of 1.2 as follows:]

Commercial First-Class Mail Presorted letters are charged at one price for the first 2 ounces, with separate prices for pieces over 2 ounces up to 3 ounces and for pieces over 3 ounces up to 3.5 ounces. Any fraction of an ounce is considered a whole ounce. For example, if a piece weighs 2.2 ounces, the weight (postage) increment is 3 ounces. The pricing per ounce is similar for automation First-Class Mail letters, with pricing differences per sortation level.

Single-piece price letters that are presented as residual pieces from either a Presorted or automation mailing are charged the residual single-piece price for letters up to 2 ounces.

* * * * *

235 Mail Preparation

* * * * *

5.0 Preparing Nonautomation Letters

5.1 Basic Standards

* * * * *

5.1.2 Single-Piece Price Pieces Presented With Presort Mailings

* * * The following standards apply:

[Revise the first two sentences of the introductory paragraph of item 5.1.2a as follows:]

a. The mailer must prepare the single-piece price pieces in separate trays from the automation and presort pieces. Mailers must label the trays under 708.6.0 using CIN code 260 on trays of single-piece letters. * * *

* * * * *

[Revise item 5.1.2.a2 as follows:]

2. Line 2: Use the human-readable content line corresponding to content identifier number 260 (see Exhibit 708.6.2.4).

* * * * *

240 Standard Mail

243 Prices and Eligibility

* * * * *

6.0 Additional Eligibility Standards for Enhanced Carrier Route Standard Mail Letters

6.1 General Enhanced Carrier Route Standards

6.1.1 Optional Preparation

* * *

[Revise the second sentence of 6.1.1 as follows:]

* * * An Enhanced Carrier Route mailing may include pieces at basic, high density, high density plus, and saturation prices.

* * * * *

[Revise the headings of 6.4 and 6.4.1 and the text of 6.4.1 as follows:]

6.4 High Density and High Density Plus (Enhanced Carrier Route) Standards

6.4.1 Basic Eligibility Standards for High Density and High Density Plus Prices

High density and high density plus letter-size mailpieces must be in a full carrier route tray or in a carrier route bundle of 10 or more pieces placed in a 5-digit carrier routes or 3-digit carrier routes tray. High density and high density plus prices for barcoded letters apply to each piece that is automation-compatible according to 201.3.0, and has an accurate delivery point Intelligent Mail barcode (IMb) encoded with the correct delivery point routing code matching the delivery address and meeting the standards in 202.5.0 and 708.4.0. Pieces that are not automation-compatible or not barcoded are mailable only at the applicable high density or high density plus nonautomation letter prices.

[Revise the title and text of 6.4.2 as follows:]

6.4.2 High Density and High Density Plus Prices for Letters

All pieces mailed at high density or high density plus prices must be prepared in walk sequence according to schemes prescribed by the USPS (see 245.6.8 through 245.6.9). Multiple pieces per delivery address can count toward both density standards. Specific density requirements are as follows:

a. Pieces mailed at high density prices must be sorted together in sequence in quantities of at least 125 pieces for each carrier route.

b. Pieces mailed at high density plus prices must be sorted together in sequence in quantities of at least 300 pieces for each carrier route.

[Revise the title and text of 6.4.3 as follows:]

6.4.3 High Density and High Density Plus Discount for Heavy Letters

High density and high density plus pieces that are automation-compatible under 201.3.0, accurately barcoded with a delivery point IMb, and weigh more than 3.3 ounces but not more than 3.5 ounces, require postage equal to the piece/pound price and receive a discount equal to the high density flat-size piece price (3.3 ounces or less) minus the high density letter piece price (3.3 ounces or less). The discount is calculated using nondestination entry prices only, regardless of entry level. This discount does not apply to pieces requiring payment of nonautomation high density or high density plus letter prices.

* * * * *

245 Mail Preparation

* * * * *

5.0 Preparing Nonautomation Letters

* * * * *

5.5 Residual Pieces

[Revise the introductory paragraph of 5.5 as follows:]

Mailers entering Standard Mail residual pieces that do not qualify for Standard Mail prices, and paying the First-Class Mail prices (but prepared “as is” under 244.5.0), must prepare these pieces in separate trays from the automation and presort pieces. Mailers must label the trays under 708.6.0 using CIN code 560 on residual trays. Label trays as follows:

* * * * *

[Revise 5.5b as follows:]

b. Line 2: Use the human-readable content line corresponding to content identifier number 560 (see Exhibit 708.6.2.4).

* * * * *

6.0 Preparing Enhanced Carrier Route Letters

* * * * *

6.2 Marking

All regular and Nonprofit Standard Mail Enhanced Carrier Route pieces must be marked under 202.3.0. All pieces must also be marked “ECRLOT” for basic price, “ECRWSH” for high density or high density plus price, or “ECRWSS” for saturation price. Pieces in carrier route mailings under 6.7 must bear carrier route information lines under 708.8.0.

* * * * *

6.6 General Traying and Labeling

* * * Preparation sequence, tray size, and labeling:

a. Carrier route: required; full trays only, no overflow.

[Revise item 6.6a2 as follows:]

2. Line 2: for saturation, “STD LTR MACH WSS,” followed by route type and number; for high density or high density plus, “STD LTR MACH WSH,” followed by route type and number; for basic, “STD LTR MACH LOT,” followed by route type and number.

* * * * *

6.7 Traying and Labeling for Automation-Compatible ECR Letters

* * * Preparation sequence, tray size, and labeling:

a. Carrier route: required; full trays only, no overflow.

[Revise item 6.7a2 as follows:]

2. Line 2: for saturation, “STD LTR BC WSS,” followed by route type and number; for high density or high density plus, “STD LTR BC WSH,” followed by route type and number; for basic, “STD LTR BC LOT,” followed by route type and number.

* * * * *

6.9 Delivery Sequence Documentation

* * * * *

[Revise the title and txt of 6.9.2 as follows:]

6.9.2 High Density and High Density Plus

For each carrier route to which high density or high density plus mail is addressed, the mailer must document the total number of addressed pieces to the route.

* * * * *

6.9.5 Both Prices

[Revise the text of 6.9.5 as follows:]

If a mailing contains pieces qualifying for more than one walk-sequence price, the documentation required by 6.9.2, 6.9.3, or 6.9.4 may be combined. Entries for pieces at the high density or high density plus prices must be so annotated on the documentation. For the entire mailing, a summary of the total number of pieces at each price must be provided. This documentation must be submitted with each mailing.

6.9.6 Carrier Route Price

[Revise the text of 6.9.6 as follows:]

If a mailing includes walk-sequence price and basic carrier route price pieces, in addition to the information required by 6.9.2 through 6.9.5, the documentation for the basic carrier route price mail must show, by 5-digit ZIP Code and, within each, by carrier route, the total number of addressed pieces at each price for each carrier route to which pieces are addressed. Pieces qualifying for the basic carrier route price must be so annotated. For the entire mailing, a summary by 5-digit ZIP Code of the total number of pieces at each price must be provided. This documentation must be submitted with each mailing.

* * * * *

300 Commercial Flats

301 Physical Standards

1.0 Physical Standards for Flats

* * * * *

1.5 Polywrap Coverings

1.5.1 Polywrap Films and Similar Coverings

[Revise the introductory text of 1.5.1 as follows:]

Mailers using polywrap film or similar material on flat-size mailpieces (except pieces mailed at high density, high density plus, or saturation prices) must use a product meeting the standards in 1.5. Film approved for use under 1.5.4 must meet the specifications in Exhibit 1.5.1 as follows:

* * * * *

1.6 Maximum Deflection for Flat-Size Mailpieces

[Revise the introductory text of 1.6 as follows:]

Flat-size mailpieces must meet maximum deflection standards. Flat-size pieces mailed at high density, high density plus, or saturation prices, and flats mailed at basic carrier route prices entered by the mailer at destination delivery units (DDUs), are not required to meet these deflection standards. Test deflection as follows:

* * * * *

330 First-Class Mail

* * * * *

335 Mail Preparation

* * * * *

5.0 Preparation of Nonautomation Flats

* * * * *

5.2 Single-Piece Price Pieces Presented With Presort Mailings

[Revise the second and third sentences of the introductory paragraph of 5.2 as follows:]

* * * Mailers must label the trays under 708.6.0 using CIN code 282 on single-piece trays. Label the trays as follows:

* * * * *

[Revise item 5.2b as follows:]

b. Line 2: Use the human-readable content line corresponding to content identifier number 282 (see Exhibit 708.6.2.4).

* * * * *

340 Standard Mail

343 Prices and Eligibility

* * * * *

6.0 Additional Eligibility Standards for Enhanced Carrier Route Standard Mail Flats

6.1 General Enhanced Carrier Route Standards

6.1.1 Optional Preparation

[Revise the last sentence of 6.1.1 as follows:]

* * * An Enhanced Carrier Route mailing may include pieces at basic, high density, high density plus, and saturation Enhanced Carrier Route prices.

* * * * *

6.1.3 Full-Service Intelligent Mail Eligibility Standards

In addition to other requirements in 6.0, flats eligible for the full-service Intelligent Mail option must:

* * * * *

[Revise item 6.1.3b as follows:]

b. Be part of a basic carrier route, high density, or high density plus carrier route mailing under 6.3 or 6.4.

* * * * *

6.2 Carrier Route Code Accuracy

* * * * *

6.2.2 USPS-Approved Methods

[Revise the text of 6.2.2 as follows:]

Carrier route coding must be performed using CASS-certified software and the current USPS Carrier Route Product or another Address Information System (AIS) product containing carrier route information subject to 509.1.0 and 708.3.0. Printed Carrier Route Files (schemes) may be used for Standard Mail Enhanced Carrier Route flat-size mail at basic, high density, high density plus, and saturation prices.

* * * * *

[Revise the title of 6.4 as follows:]

6.4 High Density and High Density Plus (Enhanced Carrier Route) Standards

[Revise the title and text of 6.4 as follows:]

6.4.1 Basic Eligibility Standards for High Density and High Density Plus Prices

All pieces mailed at high density and high density plus prices must:

a. Be prepared in walk sequence according to schemes prescribed by the USPS (see 345.6.9).

b. Meet the density requirement of at least 125 pieces for each carrier route. For high density plus prices, the density requirement is at least 300 pieces for each carrier route. Multiple pieces per delivery address can count toward the density standards.

[Revise the title of 6.4.2 as follows:]

6.4.2 High Density and High Density Plus Prices for Flats

[Revise the introductory text and item a of 6.4.2 as follows:]

High density or high density plus prices apply to each piece in a carrier route bundle of 10 or more pieces that is:

a. Palletized under 705.8.0, 705.10.0, 705.12.0, or 705.13.0.

* * * * *

345 Mail Preparation

* * * * *

5.0 Preparing Nonautomation Flats

* * * * *

5.10 Residual Pieces

[Revise the introductory paragraph of 5.10 as follows:]

Mailers entering Standard Mail residual pieces that do not qualify for Standard Mail prices, and paying the First-Class Mail prices (but prepared “as is” under 344.5.0), must separately bundle and sack residual pieces from the automation and presort pieces. Mailers must label sacks under 708.6.0 using the CIN code 582 for use with residual sacks. Label sacks as follows:

* * * * *

[Revise 5.10bas follows:]

b. Line 2: Use the human-readable content line corresponding to content identifier number 582 (see Exhibit 708.6.2.4).

* * * * *

6.0 Preparing Enhanced Carrier Route Flats

6.1 Basic Standards

All mailings and all pieces in each mailing at Enhanced Carrier Route Standard Mail and Nonprofit Enhanced Carrier Route Standard Mail nonautomation prices are subject to specific preparation standards in 6.2 through 6.7 and to these general standards:

* * * * *

c. All pieces must meet the applicable general preparation standards in 2.0 through 4.0 and 302, and the following:

[Revise item 6.1c1 as follows:]

1. All regular and Nonprofit Standard Mail Enhanced Carrier Route pieces must be marked under 302.3.0. All pieces also must be marked “ECRLOT” for basic price, “ECRWSH” for high density or high density plus prices, or “ECRWSS” for saturation price.

* * * * *

6.10 Delivery Sequence Documentation

* * * * *

[Revise the title and text of 6.10.2 as follows:]

6.10.2 High Density and High Density Plus

For each carrier route to which high density or high density plus mail is addressed, the mailer must document the total number of addressed pieces to the route.

* * * * *

6.10.5 Both Prices

[Revise the text of 6.10.5 as follows:]

If a mailing contains pieces qualifying for more than one walk-sequence price, the documentation required by 6.10.2, 6.10.3, or 6.10.4 may be combined. Entries for pieces at the high density or high density plus prices must be so annotated on the documentation. For the entire mailing, a summary of the total number of pieces at each price must be provided. This documentation must be submitted with each mailing.

6.10.6 Carrier Route Price

[Revise the text of 6.10.6 as follows:]

If a mailing includes walk-sequence price and basic carrier route price pieces, in addition to the information required by 6.10.2 through 6.10.5, the documentation for the basic carrier route price mail must show, by 5-digit ZIP Code and, within each, by carrier route, the total number of addressed pieces at each price for each carrier route to which pieces are addressed. Pieces qualifying for the basic carrier route price must be so annotated. For the entire mailing, a summary by 5-digit ZIP Code of the total number of pieces at each price must be provided. This documentation must be submitted with each mailing.

* * * * *

400 Commercial Parcels

401 Physical Standards

* * * * *

2.0 Additional Physical Standards by Class of Mail

* * * * *

2.4 Standard Mail Parcels

* * * * *

2.4.2 Marketing Parcels

Marketing parcels do not meet letters or flats standards and have the following characteristics:

* * * * *

[Add new item 2.4.2e as follows:]

e. Marketing parcels mailed as small Product Samples under 443 must be no larger than 6 inches long, 4 inches high and 1.5 inches thick. Product Samples that have any dimension larger than one of the maximum dimensions for a small Product Sample, up to the maximum size in 2.4.2b, are large Product Samples.

* * * * *

440 Standard Mail

443 Prices and Eligibility

1.0 Prices and Fees for Standard Mail

* * * * *

[Revise title of 1.2 to read as follows:]

1.2 Regular and Nonprofit Standard Mail—Marketing Parcel and Product Sample Prices

* * * * *

3.0 Basic Standards for Standard Mail Parcels

* * * * *

3.2 Defining Characteristics

* * * * *

3.2.2 Standard Mail Marketing Parcels

[Revise 3.2.2 by adding a new second sentence as follows:]

* * * All Marketing parcels prepared as Product Samples in the same mailing must additionally be identical in size and weight.

* * * * *

[Revise the title and the first two sentences of 3.5 as follows:]

3.5 Merging Similar Standard Mail Mailings

Mailings are subject to the general definitions and conditions in 445.1.0. Generally, mailers may merge similar Standard Mail matter into a single mailing; however all parcels in a mailing of Product Samples must be identical in size and weight. * * *

* * * * *

4.0 Price Eligibility for Standard Mail

4.1 General Information

[Revise the text of 4.1 as follows:]

Standard Mail parcel prices are commercial prices that apply to mailings meeting the basic standards in 2.0 through 4.0 and the specific standards in 5.0 through 6.0. Destination entry discount prices are available under 446.2.0 through 446.5.0. Except for Product Samples, pieces are subject to either a single minimum per piece price or a combined piece/pound price, depending on the weight of the individual pieces in the mailing under 4.2 or 4.3. Prices for Product Samples are available under 6.0. Nonprofit prices are available for USPS-authorized organizations under 703.1.0.

* * * * *

4.2 Minimum per Piece Prices

The minimum per piece prices (i.e., the minimum postage that must be paid for each piece) apply as follows:

[Revise item 4.2a as follows:]

a. Basic Requirement. Except for pieces mailed at Product Sample prices, pieces are subject to minimum per piece prices when they weigh no more than 3.3 ounces (0.2063 pound).

[Delete current item 4.2b, redesignate current item 4.2c as new item 4.2b and revise as follows:]

b. Individual Prices. Except for Product Samples, there are separate minimum per piece prices for each product and, within each product, for the presort and destination entry levels within each mailing. There are also separate prices for Marketing parcels, Nonprofit machinable parcels, and Nonprofit irregular parcels. Under Marketing parcels, there are separate prices for Product Samples.

4.3 Piece/Pound Prices

[Revise the text of 4.3 as follows:]

Except for Product Samples, pieces that exceed 3.3 ounces are subject to a two-part piece/pound price that includes a fixed charge per piece and a variable pound charge based on weight. There are separate per piece prices for each product, and within each product, for the type of mailing and the presort and destination entry levels within each mailing. There are separate per pound prices for each product.

4.4 Surcharge

[Revise the introductory text of 4.4 as follows:]

Unless prepared as Product Samples or in 5-digit/scheme containers, Standard Mail parcels are subject to a surcharge if: * * *

* * * * *

4.5 Extra Services for Standard Mail

* * * * *

4.5.2 Ineligible Matter

Extra services (other than certificate of mailing service) may not be used for any of the following types of Standard Mail:

* * * * *

[Revise item 4.5.2d as follows:]

d. Pieces mailed at Product Sample prices.

* * * * *

5.0 Additional Eligibility Standards for Presorted Standard Mail Pieces

* * * * *

5.2 Price Application

[Revise the text of 5.2 as follows:]

Prices for Standard Mail and Nonprofit Standard Mail apply separately to Marketing parcels (and within Marketing parcels, to Product Samples) that meet the eligibility standards in 2.0 through 4.0 and the applicable preparation standards in 445.5.0, 705.6.0, 705.8.0, or 705.22. Prices for Nonprofit parcels not qualifying as Marketing parcels apply separately to machinable parcels and irregular parcels. When parcels are combined (except for Product Samples, which cannot be combined with other parcels) under 445.5.0, 705.6.0, or 705.22, all pieces are eligible for the applicable prices when the combined total meets the eligibility standards.

* * * * *

[Revise the title and the standards within 6.0 as follows:]

6.0 Additional Eligibility Standards for Marketing Parcels Mailed as Product Samples

6.1 General Product Sample Standards

6.1.1 Basic Standards and Optional Preparation

Product Samples are a type of Marketing parcels. See 401.2.4.2 for physical standards and 443.3.0 for basic standards. Preparation to qualify for any Product Sample price is optional and need not be performed for all carrier routes in a 5-digit area. A Product Sample mailing may include pieces mailed at targeted prices and pieces mailed at saturation (Every Door) prices, but all pieces in a mailing must be identical in size and weight. All mailings of Product Samples must be entered under DNDC, DSCF, or DDU standards (see 446). No origin office entry of Product Samples is allowed. See 705.18.0 for Express Mail and Priority Mail Open and Distribute options.

6.1.2 Pricing for Product Samples

See Notice 123—Price List for price tables. Detached address labels (DALs; see 602.4.0) for Product Samples must be sorted to carrier routes, including delivery routes and Post Office Box sections. Product Sample mailings are subject to per piece prices and, when not entered at a DDU, are subject to carton/sack and/or pallet prices. Piece prices are different for parcels sorted to the targeted level (6.3) than for parcels sorted to the saturation level (6.4). Within each sortation level, piece prices are different for small parcels than for large parcels (see 401.2.4.2). Prices for cartons (or sacks) and pallets are subject to the following conditions:

a. A pallet charge applies to each pallet of Product Samples entered at a DNDC or DSCF, except 3-digit pallets properly entered at a DSCF.

b. A carton or sack charge applies to each carton or sack of Product Samples on a 3-digit pallet. Each carton must not exceed 40 pounds nor exceed a combined length and girth of 108 inches.

6.1.3 Basic Eligibility Standards

All parcels (or DALs, when used) in a mailing of Product Samples must bear an alternative addressing format. Parcels mailed at targeted prices must have an occupant address format or an exceptional address format under 602.3.0. Parcels mailed at saturation prices must bear a simplified address under 602.3.2. In addition, all Product Sample parcels must meet these conditions:

a. Meet the basic standards for Standard Mail in 2.0 through 4.0.

b. Be part of a single mailing of at least 200 pieces or 50 pounds of parcels mailed at Product Sample prices. Regular and Nonprofit mailings must meet separate minimum volumes.

c. DALs, when used, must be sorted to carrier routes and documented under 445.6.0 and 705.8.0, as applicable.

d. DALs used with parcels mailed at targeted prices must bear a delivery address that includes the correct ZIP Code, ZIP+4 code, or numeric equivalent to the delivery point barcode and that meets the carrier route accuracy standard in 6.2.

e. DALs must meet the applicable sequencing requirements in 6.3 through 6.5 and in 445.6.6.

6.2 Carrier Route Accuracy

6.2.1 Basic Standards

The carrier route accuracy standard is a means of ensuring that the carrier route code correctly matches the delivery address information on detached address labels (DALs) used with Product Samples mailed at targeted prices. For the purposes of this standard, address means a specific address associated with a specific carrier route code. This standard does not apply to pieces with simplified addresses. Addresses used on pieces subject to the carrier route accuracy standard must meet these requirements:

a. Each address and associated carrier route code used on the pieces in a mailing must be updated within 90 days before the mailing date with one of the USPS-approved methods in 6.2.2.

b. If the carrier route code of an address used on a piece in a carrier route mailing at one class of mail and price is updated with an approved method, the same address may be used during the following 90 days to meet the carrier route accuracy standard required for mailing at any other class of mail and price.

6.2.2 USPS-Approved Methods

Carrier route coding must be performed using CASS-certified software and the current USPS Carrier Route Product or another Address Information System (AIS) product containing carrier route information subject to 509.1.0 and 708.3.0.

6.2.3 Mailer Certification

The mailer's signature on the postage statement certifies that the carrier route accuracy standard has been met for each address in the corresponding mailing presented to the USPS.

6.3 Additional Standards for Targeted Product Samples

6.3.1 Sequencing

All parcels mailed at targeted prices must be accompanied with detached address labels (DALs) prepared in walk sequence (see 445.6.6). The combined weight of the DAL and associated sample must be less than 1 pound; there are no additional fees for use of DALs with pieces mailed at targeted prices.

6.3.2 Basic Preparation for Targeted Prices

Targeted prices apply to each parcel for a carrier route, prepared under 445.6.0. There are separate targeted prices for small parcels and for large parcels (see 401.2.4.2). DALs must be in carrier route bundles and prepared under 445.6.0 and 602.4.0.

6.4 Additional Standards for Saturation (Every Door) Product Samples

6.4.1 Basic Eligibility Standards for Saturation Prices

All parcels in a mailing at saturation prices must bear simplified addresses (or be accompanied by DALs bearing simplified addresses), and the mailing must meet the saturation standards for simplified addressed pieces under 602.3.2. For DAL charges, see Notice 123—Price List.

6.4.2 Basic Preparation for Saturation Prices

Saturation prices apply to each parcel in a carrier route or 5-digit/L606 sack or carton of simplified addressed pieces, or as allowed in bundles on pallets under 445.6.0. If used, DALs must be in carrier route bundles and prepared under 445.6.0 and 602.4.0.

* * * * *

444 Postage Payment and Documentation

* * * * *

[Revise the title of 2.0 as follows:]

2.0 Additional Postage Payment Standards

* * * * *

2.2 Nonidentical-Weight Pieces

[Revise the text of 2.2 as follows:]

Product Samples must be of identical weight within each mailing. Postage for other nonidentical-weight parcels may be paid by precanceled stamps, subject to 4.0 and 604.3.0. Mailings of nonidentical-weight pieces subject to the piece/pound prices may have postage paid by permit imprint (if the mailer is authorized by Business Mailer Support) or by meter (if each piece has the full postage affixed). Alternatively, the mailer may affix the per piece price to each piece and pay the pound price for the mailing through an advance deposit account. Under this option, the mailer must provide a postage statement for each payment method and mark each piece “Pound Price Pd via Permit” in the postage meter indicium. For mailings of nonidentical-weight pieces, “nonidentical” must be shown as the weight of a single piece on the postage statement.

* * * * *

445 Mail Preparation

1.0 General Information for Mail Preparation

* * * * *

1.2 Definition of Mailings

Mailings are defined as:

* * * * *

b. Standard Mail. Except as provided in 443.3.6, the types of Standard Mail listed below may not be part of the same mailing.

[Revise items 1.2b1 and 1.2b2 as follows:]

1. Product Sample parcels and any other type of mail.

2. Product Sample parcels of nonidentical size or nonidentical weight.

* * * * *

1.3 Terms for Presort Levels

Terms used for presort levels are defined as follows:

[Revise item 1.3a as follows:]

a. Targeted (Product Samples or Simple Samples): a type of Marketing parcel that is intended for specific carrier routes, with DALs sorted to and marked at the carrier route level; with a minimum of one piece per carrier route. Multiple DALs per route are all addressed for delivery to the same city route, rural route, highway contract route, Post Office box section, or general delivery unit.

* * * * *

2.0 Bundles

2.1 General

[Revise the text of 2.1 as follows:]

A bundle is a group of addressed pieces for a presort destination secured together as a unit. Bundling is permitted only for Marketing parcels mailed at Product Sample prices and for related DALs when used. Bundles must be in equal quantities of up to 50 parcels per bundles, with quantities of other than 50 indicated on a bundle facing slip. Bundles of parcels must be either banded or shrinkwrapped, and bundles of parcels more than 8 ounces each must be banded and shrinkwrapped. See 601.2.0 for other bundling standards.

[Revise the title of 2.2 as follows:]

2.2 Facing Slips

[Revise the introductory text and item b of 2.2 as follows:]

Facing slips on bundles of DALs must show the carrier route designation, the 5-digit destination ZIP Code, and the number of DALs for that carrier route. Facing slips used on bundles of Product Sample parcels must show the quantity in the bundle if less than 50 and this information:

* * * * *

b. Line 2: Content (e.g., “STD MKTG SAMPLE) if accompanied by DALs bundled by carrier route, or contents followed by carrier route type and route number when not accompanied by DALs (e.g., “STD MKTG SAMPLE CR R 012”).

3.0 Sacks

3.1 Standard Containers

[Revise the first sentence of the introductory text, and add a new second sentence, of 3.1 as follows:]

Mailings must be prepared in sacks, except for Product Samples, which may be in cartons, sacks, or bundles directly on pallets. Also, see 602.4.0 when Product Samples are mailed with DALs.

* * * * *

5.0 Preparing Presorted Parcels

5.4 Preparing Marketing Parcels (Less Than 6 Ounces) and Irregular Parcels

5.4.1 Bundling

[Revise the text of 5.4.1 as follows:]

Bundling is permitted only for bundles of Product Sample parcels (and associated DALs) under 6.0.

* * * * *

[Revise the title of 6.0 as follows:]

6.0 Preparing Enhanced Carrier Route Product Sample Parcels

6.1 Basic Standards

All mailings and all pieces in each mailing at an Enhanced Carrier Route (ECR) parcel price are subject to specific preparation standards in 6.4 and 6.5, entry standards in 446, and these general standards:

* * * * *

[Revise item 6.1b as follows:]

b. All pieces in each mailing must be Product Sample parcels as defined in 443.3.2.2.

* * * * *

[Revise item 6.1e as follows:]

e. Sortation, size, and preparation determine price eligibility as specified in 443.6.0.

6.2 Marking

[Revise the text of 6.2 as follows:]

All Enhanced Carrier Route pieces (or DALs) must be marked under 402.2.0. All pieces must be marked “ECRLOT” for pieces claiming a targeted price, or “ECRWSS” for pieces claiming a saturation (Every Door) price.

6.3 Residual Pieces

[Revise the text of 6.3 as follows:]

Parcels not prepared or sorted as a carrier route mailing at Product Sample prices must be prepared as a separate mailing at Standard Mail Presorted prices.

6.4 Bundling

6.4.1 Bundle Preparation

[Revise the text of 6.4.1 as follows:]

Carrier route preparation and bundling of DALs is required; Product Samples must be bundled by either carrier route or by 5-digit/L606 destinations. Prepare bundles as follows:

a. Sacks must contain at least 15 pounds or 125 pieces of mail, except under 6.4.2. Cartons may be used instead of sacks. Cartons have no minimum weight, must not weigh more than 40 pounds, and must not exceed 108 inches in combined length and girth.

b. DALs are required for parcels mailed at targeted prices; mailers must prepare carrier route bundles of DALs. Bundles of DALs must have a facing slip with the number of DALs for that carrier route indicated. Bundles of parcels must be prepared in sacks or cartons labeled to the correct 5-digit/L606 destination, and bundled under 2.0 and the same bundling standards as for saturation parcels under 6.4.1c. Optionally, parcels may be prepared in carrier route bundles, with a facing slip on the top of each bundle, noting the carrier route. Prepare bundles of DALs and bundles of samples in the same carton or sack, with the bundles of DALs on the top. See 602.4.0 for additional preparation standards for parcels and accompanying DALs, including optional pallet preparation.

c. DALs are optional for parcels mailed at saturation prices. Bundles of parcels are prepared in sacks or cartons labeled to carrier routes or to 5-digit destination ZIP Codes, and bundled in similar quantities of up to 50 pieces per carrier route bundle or 5-digit/L606 bundle. When DALS are used, the DALs must be prepared in carrier route bundles and placed in the same carton or sack as the samples for the corresponding route or routes within the same delivery ZIP Code. Bundles of DALs must have facing slips with the number of DALs for that carrier route indicated. If not placed in a sack or carton, saturation parcels must be bundled in quantities of 50 or less under 2.0 and the bundles placed on 5-digit/L606 pallets in a stable manner. As an option, bundled saturation parcels without accompanying DALs may be prepared in sacks or cartons labeled to carrier routes or 5-digit destination ZIP Codes, then placed on pallets. A manifest report showing the total number of samples per carrier route is required when the samples are not prepared with DALs.

[Revise the title and the first sentence of 6.4.2 as follows:]

6.4.2 Fewer Than the Minimum Number of Pieces per Route

[Revise 6.4.2 as follows:]

As a general exception to 6.4.1 and 6.5.1, mailers may prepare pieces and DALS with fewer than 125 pieces or less than 15 pounds of mail to a carrier route or a 5-digit destination when the mail is in a carton. Also, there may be less than 125 pieces or 15 pounds of mail to a sack when the saturation price is correctly claimed. * * *

[Revise the title of 6.5 as follows:]

6.5 Preparing Product Samples

6.5.1 Sack Minimums

[Revise the text of 6.5.1 as follows:]

Except for bundled saturation parcels and except under 6.4.2, a sack or carton must be prepared when the quantity of mail for a required presort destination reaches either 125 pieces or 15 pounds of mail.

[Delete current items 6.5.1a through 6.5.1c in their entirety.]

6.5.2 Sacking and Labeling

Preparation sequence, sack or carton size (see also 602.4.3.5 for additional standards when using cartons), and labeling:

a. Carrier route: optional with no minimum per carton; see 6.5.1 for minimums for sacks:

* * * * *

[Revise item 6.5.2a2 as follows:]

2. Line 2: “STD MKTG WSS” (for saturation samples) or “STD MKTG LOT” (for targeted samples), followed by the route type and number.

[Add new 6.5.3 as follows:]

6.5.3 Required Palletization

All Product Sample mailings must be destination entered at one or more DDUs, DSCFs, or DNDCs. Except for sacks or cartons of Product Samples entered directly at a DDU, all mailings of Product Samples must be palletized. Pallets (under 705.8.10.3) must be used for sacks or cartons (or bundles of saturation samples only) of Product Samples for mail entered at DNDCs and DSCFs.

* * * * *

6.7 Delivery Sequence Documentation

* * * * *

[Revise the title and text of 6.7.2 as follows:]

6.7.2 Product Samples—Targeted

For each mailing of Product Samples at targeted carrier route prices, the mailer must document the total number of pieces mailed to each carrier route.

* * * * *

[Delete current 6.7.4, Saturation Density—Other Mail, in its entirety.]

[Renumber current 6.75 as new 6.7.4.]

6.7.4 Both Prices

[Revise the text of renumbered 6.7.4 as follows:]

If a mailing contains pieces qualifying for targeted and saturation prices, the documentation required may be combined. Entries for pieces at the targeted price must be so annotated on the documentation. For the entire mailing, a summary of the total number of pieces at each price must be provided. This documentation must be submitted with each mailing.

[Delete current 6.7.6, Carrier Route Price, in its entirety.]

* * * * *

446 Enter and Deposit

* * * * *

2.0 Destination Entry

* * * * *

2.5 Verification

* * * * *

2.5.5 Volume Standards

Except as permitted for a local mailer under 2.6.13, destination entry mailings are subject to these volume standards:

[Revise item 2.5.5a as follows:]

a. Except for Product Samples, the pieces for which a destination price is claimed must represent more than 50% of the mail (by weight or pieces, whichever is greater) presented by the same mailer within any 24-hour period. Product Samples mailings must be 100% destination-entered. For this standard, mailer is the party presenting the mail to the USPS.

* * * * *

3.0 Destination Network Distribution Center (DNDC) Entry

* * * * *

3.2 Eligibility

Pieces in a mailing that are deposited at a NDC or ASF under 2.0 and 3.0 are eligible for the DNDC price when the following conditions are met:

* * * * *

[Revise item 3.2b by adding a new last sentence as follows:]

b. * * * Product Samples must be palletized under 445.6.5 and 705.8.10.3.

* * * * *

4.0 Destination Sectional Center Facility (DSCF) Entry

* * * * *

4.2 Eligibility

Pieces in a mailing that meets the standards in 2.0 and 4.0 are eligible for the DSCF price, as follows:

[Revise item 4.2a by adding a new last sentence as follows:]

a. * * * Product Samples must be palletized under 445.6.5 and 705.8.10.3.

* * * * *

5.0 Destination Delivery Unit (DDU) Entry

* * * * *

5.2 Eligibility

Pieces in a mailing that meets the standards in 2.0 and 5.0 are eligible for the DDU price or DDU entry (as applicable) when deposited at a DDU, addressed for delivery within that facility's service area, and prepared as follows:

[Revise item 5.2a as follows:]

a. Marketing parcels eligible for and prepared as Product Samples in carrier route bundles, cartons, or sacks, and otherwise eligible for and claimed at a carrier route price under 443 and 445.

* * * * *

460 Bound Printed Matter

463 Prices and Eligibility

1.0 Prices and Fees for Bound Printed Matter

1.1 Nonpresorted Bound Printed Matter

* * * Apply the prices and discounts for nonpresorted Bound Printed Matter as follows:

* * * * *

[Delete current 1.1.3, Bound Printed Matter—Nonpresorted, in its entirety.]

[Renumber current 1.1.4 as new 1.1.3.]

* * * * *

465 Mail Preparation

* * * * *

[Delete current 7.0, Standards for Barcode Discounts, in its entirety.]

* * * * *

500 Additional Mailing Services

503 Extra Services

1.0 Extra Services for Express Mail

1.1 Available Services

* * * * *

1.1.2 Proof of Delivery

Proof of delivery information for Express Mail is available as follows:

[Revise the text of item 1.1.2a as follows:]

a. Individual requests by article number can be retrieved at www.usps.com or by calling 1-800-222-1811. A proof of delivery letter (signature data) is provided electronically via email or signature extract file as provided in 1.1.2b.

[Revise the text of item 1.1.2b. as follows:]

b. Bulk proof of delivery (7.0) is available only to mailers using Express Mail Manifesting service and is obtained in a signature extract file format.

* * * * *

2.0 Registered Mail

* * * * *

2.2 Basic Information about Registered Mail

* * * * *

2.2.5 Additional Services

[Revise the fourth sentence of 2.2.5 as follows:]

* * * Customers receiving bulk proof of delivery obtain signature data in a signature extract file format.* * *

* * * * *

5.0 Certificate of Mailing

* * * * *

5.1 Certificate of Mailing Fees

[Revise the text of 5.1 as follows:]

In addition to the correct postage, the applicable certificate of mailing fee must be paid for each article on Form 3817 or Form 3877 (5.2.3) and for duplicate copies (5.3.3). When postage evidencing indicia are used to pay the fee, they must bear the full numerical value of the amount paid in the imprint. See Notice 123—Price List.

* * * * *

5.4 Other Bulk Quantities—Certificate of Bulk Mailing

5.4.1 Certificate of Bulk Mailing Fees

[Revise 5.4.1 by adding a new last sentence as follows:]

* * * Mailers using Form 3606 with a permit imprint mailing also may pay certificate of mailing fees, at the time of mailing, using the same permit imprint.* * *

* * * * *

6.0 Return Receipt

* * * * *

6.2 Basic Information

* * * * *

6.2.1 Description

[Revise the second and fourth sentences of 6.2.1 as follows, and delete the current last two sentences of 6.2.1.]

* * * A mailer purchasing return receipt service at the time of mailing may choose to receive the return receipt by mail (Form 3811) or electronically (by email or by signature extract file format as provided in 7.0).* * * A mailer purchasing return receipt service after mailing will receive the proof of delivery record by email (electronic signature data) or by mail (Form 3811-A).* * *

* * * * *

6.2.3 Endorsement

[Revise the last sentence of 6.2.3 as follows:]

* * * No endorsement is required on mail for which electronic return receipt service is requested or is provided in bulk in a signature extract file format.

* * * * *

6.3 Obtaining Service

* * * * *

6.3.2 After Mailing

[Revise last sentence of the introductory text as follows:]

* * * Mailers may request a delivery record by completing Form 3811-A, paying the appropriate fee in 6.1.1, and submitting the request to the appropriate office as follows:

* * * * *

6.3.3 Time Limit

[Revise the text of 6.3.3 as follows:]

A request for a return receipt after mailing must be submitted within 2 years from the date of mailing.

* * * * *

6.5 Requests for Delivery Information

6.5.1 Receipt Not Received

[Delete the current last sentence of 6.5.1]

* * * * *

7.0 Bulk Proof of Delivery

7.1 Description

[Revise the current second sentence of the introductory text of 7.1 as follows:]

* * * The proof of delivery records are sent in a signature extract file format.* * *

* * * * *

9.0 Adult Signature

* * * * *

9.2 Basic Information

9.2.1 Description

[Revise the current third sentence of the introductory text of 9.2.1 as follows:]

* * * The USPS maintains a record of delivery (which includes the recipient's signature) for 2 years.* * *

* * * * *

9.2.5 Confirmation of Delivery

Confirmation of delivery information for Adult Signature is available as follows:

[Revise the text of item 9.2.5a as follows:]

a. Information by article number can be retrieved at www.usps.com or by calling 800-222-1811. A proof of delivery letter may be provided electronically (see 9.2.5b) or by email.

[Revise the second sentence of item 9.2.5b as follows:]

b. * * * Customers receiving bulk proof of delivery obtain signature data in a signature extract file format.

* * * * *

[Revise the title of 11.0 as follows:]

11.0 USPS Tracking/Delivery Confirmation

[Note: Make global change to DMM changing “Delivery Confirmation” to “USPS Tracking/Delivery Confirmation.”]

* * * * *

12.0 Signature Confirmation

* * * * *

12.2 Basic Information

12.2.1 Description

[Revise the second sentence of the introductory text of 12.2.1 as follows:]

* * *A delivery record, including the recipient's signature, is maintained by the USPS and is available electronically or by email, upon request.* * *

* * * * *

[Revise the title of 15.0 as follows:]

15.0 IMb Tracing

15.1.1 General Information

[Revise the text of 15.1.1 as follows:]

IMb Tracing is available at no charge without a subscription. Requirements for participation in IMb Tracing are the use of the Intelligent Mail barcode, the use of a Mailer Identifier that has been registered (via the Business Customer Gateway, accessible on usps.com) to receive scan data, and verification by the Postal Service that the Intelligent Mail barcode (IMb) as printed meets all applicable postal standards.

15.1.2 Description of Service

[Revise the text of 15.1.2 as follows:]

IMb Tracing provides a mailer with data electronically collected from the scanning of barcoded mailpieces as they pass through automated mail processing operations. Scanned data can include the postal facility where such pieces are processed, the postal operation used to process the pieces, the date and time when the pieces are processed, and the numeric equivalent of a barcode(s) that helps to identify the specific pieces. Any piece intended to generate scanned data must meet the physical characteristics and standards in 15.0, although not every piece is guaranteed such data or complete data. This service does not provide a delivery scan or proof of delivery.

* * * * *

15.2 Barcodes

15.2.1 General Barcode Requirements

[Revise the introductory text of 15.2.1 as follows:]

Each piece in a mailing that is intended to generate IMb Tracing information must bear an Intelligent Mail barcode under 15.2.2. Mailers must apply Intelligent Mail barcodes under 708.4.0 and the following standards:

* * * * *

600 Basic Standards for All Mailing Services

* * * * *

602 Addressing

* * * * *

3.0 Use of Alternative Addressing

* * * * *

3.2 Simplified Address

3.2.1 Conditions for General Use

The following conditions must be met when using a simplified address on commercial mailpieces:

* * * * *

[Revise the introductory text of item 3.2.1b as follows:]

b. Standard Mail, Periodicals, and Bound Printed Matter flat-size mailpieces (including Standard Mail pieces allowed as flats under 3.2.1c), Standard Mail Product Samples mailed at saturation (Every Door) prices, and Periodicals irregular parcels for distribution to a city route or to Post Office boxes in offices with city carrier service may bear a simplified address, but only when complete distribution is made under the following conditions:

* * * * *

4.0 Detached Address Labels (DALs) and Detached Marketing Labels (DMLs)

4.1 DAL and DML Use

* * * * *

[Revise the title and text of 4.1.3 as follows:]

4.1.3 Standard Mail Marketing Parcels—Product Samples

DALs or DMLs must be used with Standard Mail Marketing parcels mailed at targeted Product Sample prices and may be used with parcels mailed at saturation (Every Door) Product Sample prices.

* * * * *

4.3 Mail Preparation

* * * * *

4.3.2 Basic Standards for DALs

[Revise the fourth sentence of 4.3.2 as follows:]

* * * Mailers must prepare DALs as bundles placed in sacks or in cartons, unless prepared in trays under 4.3.7 when mailed with saturation flats or with Product Samples. * * *

* * * * *

4.3.3 Basic Standards for Items Distributed With DALs

[Revise the first sentence of 4.3.3 as follows:]

Except for bundles of saturation flats or Product Samples placed directly on pallets under 4.3.7, the items to be distributed with DALs must be placed in cartons or prepared in bundles placed in sacks, subject to the standards for the price claimed. * * *

* * * * *

4.3.6 Optional Tray and Bundle Preparation

[Revise the text of 4.3.6 as follows:]

Mailers may prepare DALs in letter trays according to 245.6.0 when DALs are used in mailings of saturation flats or Product Samples. Bundles of saturation flats and bundles of Product Sample parcels to be distributed with DALs may be prepared on 5-digit (and 5-digit scheme under L606 for parcels) pallets under 4.3.7. Do not use pallets when the Drop Shipment Product indicates the delivery unit that serves the 5-digit pallet destination cannot handle pallets. For such delivery units, mail with DALs must be prepared in cartons or sacks. The tray(s) of corresponding DALs must be placed on top of the accompanying pallet of flats, and the pallet contents must be secured with stretchwrap to avoid separation in transportation and processing. All containers must be labeled according to 4.3.5.

4.3.7 Optional Container Preparation

[Revise the text of 4.3.7 as follows:]

Bundles of flats, bundles of Product Samples, and cartons or sacks of items may be placed on pallets meeting the standards in 705.8.0. Cartons or trays of DALs must be placed on pallets with the corresponding items under 4.3 and 705.8.0. The USPS plant manager at whose facility a DAL mailing is deposited may authorize other containers for the portion of the mailing to be delivered in that plant's service area.

* * * * *

4.5 Postage

* * * * *

4.5.2 Postage Computation and Payment

* * * In addition, these methods of postage payment apply:

* * * * *

[Revise item 4.5.2c as follows:]

c. A surcharge applies to each DAL (including DMLs) used in a Standard Mail flats mailing and to each DAL (or DML) used with pieces mailed at Standard Mail Product Sample saturation parcel prices.

* * * * *

604 Postage Payment Methods

1.0 Stamps

1.1 Postage Stamp Denominations

Postage stamps are available in the following denominations:

[Revise the table in 1.1 as follows:]

Type and format | Denomination
Regular Postage:
Panes | $0.01, .02, .03, .04, .05, .10, .20, .33, $1, $2, $5, $10. In addition, panes of stamps for the current First-Class Mail (FCM) single-piece 1-ounce letter price, FCM 2-ounce letter price, FCM 3-ounce letter price, Priority Mail flat-rate envelope price, and Express Mail flat-rate envelope price.
Booklets of 10 or 20 stamps | The current First-Class Mail single-piece 1-ounce letter price.
Coils of 50 | The current First-Class Mail single-piece 1-ounce letter price.
Coils of 100 | $0.20, .33, and the current First-Class Mail single-piece 1-ounce letter price.
Coils of 3,000 | The current First-Class Mail single-piece 1-ounce letter price.
Coils of 10,000 | $0.01, .02, .03, .04, .05, .10, and coils of the current First-Class Mail single-piece 1-ounce letter price.
Precanceled Presorted Price Postage—First-Class Mail and Standard Mail:
Coils of 500, 3,000, and 10,000 | Various nondenominated (available only to permit holders).
Commemoratives:
Panes of up to 20 stamps and 20-stamp booklets | The current First-Class Mail single-piece 1-ounce letter price and other denominations.
Semipostal:
Breast Cancer Research & Save Vanishing Species | Purchase price of $0.55; postage value equivalent to First-Class Mail single-piece 1-ounce letter price; remainder, minus reasonable costs incurred by the Postal Service, is contributed to fund specified causes.
Forever Stamp (Nondenominated):
Panes of up to 20 | The current First-Class Mail 1-ounce letter price.
20-Stamp Booklets | The current First-Class Mail 1-ounce letter price.
18-Stamp Sheetlets | The current First-Class Mail 1-ounce letter price.
Coils of 100 | The current First-Class Mail 1-ounce letter price.

* * * * *

1.11 Additional Standards for Semipostal Stamps

Semipostal stamps are subject to the following special conditions:

* * * * *

[Revise item 1.11b as follows:]

b. The following semipostal stamps are available for sale:

1. The Breast Cancer Research semipostal stamp. The difference between the purchase price and the First-Class Mail single-piece first-ounce letter price in effect at the time of purchase constitutes a contribution to breast cancer research and cannot be used to pay postage. Funds (net of reasonable USPS costs) from the sale of the Breast Cancer Research semipostal stamp are transferred to the Department of Defense and the National Institutes of Health.

2. The Save Vanishing Species™ semipostal stamp. The difference between the purchase price and the First-Class Mail single-piece first-ounce letter price in effect at the time of purchase constitutes a contribution to the Multinational Species Conservation Funds. Funds (net of reasonable USPS costs) from the sale of the Save Vanishing Species semipostal stamps are transferred to the United States Fish and Wildlife Service.

c. The postage value of each semipostal stamp is the First-Class Mail single-piece first-ounce letter price in effect at the time of purchase. Additional postage must be affixed to pieces weighing in excess of 1 ounce, pieces subject to the nonmachinable surcharge, or pieces for which extra services have been requested. The postage value of semipostal stamps purchased before any subsequent change in the First-Class Mail single-piece first-ounce letter price is unaffected by any subsequent change in that price. The purchase price is listed in 1.1.

* * * * *

5.0 Permit Imprint (Indicia)

* * * * *

5.4 Picture Permit Imprint Indicia

5.4.1 Description

[Revise the text of 5.4.1 as follows:]

Picture permit imprint indicia may contain business-related color images, such as corporate logos, brand, trademarks and other pictorial business images. These images are known as picture permit imprints. Picture permit imprints may be used to pay postage and extra service fees on commercial mailings of full-service automation First-Class Mail or Standard Mail postcards, letters, or flats.

* * * * *

5.4.5 Picture Permit Imprint Indicia Format

[Revise the introductory text of 5.4.5 as follows:]

As options to the basic format under 5.3.11 and if all other applicable standards in 5.0 are met, permit imprint indicia may be prepared in picture permit imprint format subject to these conditions:

* * * * *

[Revise item 5.4.5f as follows:]

f. Commercial mailings of First-Class Mail and Standard Mail postcards, letters or flats bearing picture permit indicia must be prepared as IMb full-service automation mailings under 705.24.0. Residual mailpieces that result from a mailer's normal preparation of the full-service IMb mailing also can be mailed bearing a picture permit imprint and not be paid at the full-service price.

* * * * *

608 Postal Information and Resources

* * * * *

8.0 USPS Contact Information

8.1 Postal Service

* * * * *

[Revise 8.1 by renaming the reference “Post Office Accounting Manager, US Postal Service, 475 L'Enfant Plz SW Rm 8831, Washington DC 20260-5241” as follows:]

Corporate Accounting Manager, US Postal Service, 475 L'Enfant PLZ SW RM 8831, Washington DC 20260-5241

* * * * *

[Revise 8.1 by replacing the address for reference “National Customer Support Center, US Postal Service, 6060 Primacy Pkwy Ste 201, Memphis TN 38188-0001” as follows:]

National Customer Support Center, US Postal Service, 225 N. Humphreys Blvd., Ste 501, Memphis, TN 38188-1001

* * * * *

[Revise 8.1 by renaming the reference “Postage Technology Management, US Postal Service, 475 L'Enfant Plz SW Rm 3660, Washington DC 20260-4110” as follows:]

Payment Technology, US Postal Service, 475 L'Enfant PLZ SW RM 3660, Washington DC 20260-4110

* * * * *

609 Filing Indemnity Claims for Loss or Damage

* * * * *

1.0 General Filing Instructions

* * * * *

1.5 Where To File

A claim may be filed:

[Revise item 1.5b by deleting the second sentence and revising the first sentence as follows:]

* * * * *

b. Online at www.usps.com/insuranceclaims/online.htm for domestic insured mail, Express Mail, COD and Registered Mail.

* * * * *

700 Special Standards

703 Nonprofit Standard Mail and Other Unique Eligibility

* * * * *

6.0 Official Mail (Franked)

6.1 Basic Information

* * * * *

[Renumber current 6.1.3 through 6.1.7 as new 6.1.4 through 6.1.8:]

[Add a new 6.1.3 as follows:]

6.1.3 Vice President-Elect

The Vice President-elect of the United States may send franked mail in connection with preparations for assuming official duties as Vice President. If the Vice President-elect is authorized/eligible to use penalty mail, the right to use penalty mail ceases immediately on inauguration to the vice presidency.

* * * * *

7.0 Official Mail (Penalty)

* * * * *

7.3 Eligibility

* * * * *

[Delete 7.3.5, Vice President-Elect, in its entirety]

* * * * *

7.4 Authorization

7.4.1 Authorized Agencies

[Add a new second sentence and revise the last sentence in 7.4.1 as follows:]

* * * New locations or departments under these agencies must obtain approval from the Agency Mail Manager before using penalty mail. Other agencies may request authorization to use penalty mail by writing to the Corporate Accounting Manager, USPS Headquarters (608.8.0).

* * * * *

7.4.4 Private Use

[Revise the first sentence of 7.4.4 as follows:]

Unless permitted by USPS standards, an agency may not lend or provide penalty envelopes, cards, cartons, labels, or meter stamps to any private person, concern, or organization.* * *

7.4.5 Permit and BRM Numbers

[Revise 7.4.5 as follows:]

Penalty mail permit imprint or BRM numbers, or information to help agencies track and account for penalty mail postage by cost center, may be obtained by written request to the Corporate Accounting manager, USPS Headquarters (608.8.0).

* * * * *

7.5 Services, Classes, Prices, Preparation, and Detention

* * * * *

7.5.3 Basic Preparation

Penalty mail must:

* * * * *

[Revise item 7.5.3d as follows:]

d. Be endorsed for class or price except for single-piece price First-Class Mail.

* * * * *

7.5.7 Military Units

Military units engaged in hostile operations or operating under arduous conditions may be authorized to use a special form of postage-due penalty mail, subject to these conditions:

* * * * *

[Revise item 7.5.7e as follows:]

e. The Military Postal Service Agency must notify the Corporate Accounting manager, USPS Headquarters (608.8.0), within three business days after implementing these provisions.

* * * * *

7.5.9 Mail Detention

[Revise the second sentence of 7.5.9 as follows:]

* * * Reports of indicated abuse are submitted to the Pricing Classification Service Center (PCSC) (608.8.0) for referral to the proper agency for investigation and action.

7.6 General Standards for Penalty Indicia

7.6.1 General

[Revise 7.6.1 as follows:]

The formats and methods of mailing penalty mail are penalty metered mail, penalty permit imprint mail, penalty Periodicals imprint mail, and penalty reply mail. There are also special procedures for penalty Express Mail. All penalty mail matter must meet the applicable standards in 7.6 through 7.15.

7.6.2 Use

Envelopes and labels prepared under these standards may be used only to transmit penalty mail within the U.S. Mail, except when:

* * * * *

[Revise item 7.6.2c as follows:]

c. Agencies reach written agreement with the Corporate Accounting Manager, USPS Headquarters (608.8.0), to account for and pay postage on official items carried outside the U.S. Mail (18 USC 1693-1699 and 39 USC 601-606).

7.7 Penalty Meter

* * * * *

7.7.5 Refunds for Unused Penalty Meter Indicia

[Revise the first sentence of 7.7.5 as follows:]

Refunds for complete, legible, valid, unused penalty mail meter indicia are made under 604.9.0. * * *

* * * * *

7.7.10 Computerized Meter Resetting

[Revise the first sentence of 7.7.10 as follows:]

An agency may use a penalty mail version of the authorized postage meter payment process for remotely reset meters if it is offered by one of the USPS-authorized postage meter providers.* * *

* * * * *

7.8 Penalty Permit Imprint

7.8.1 Application

[Revise the fourth sentence of 7.8.1 as follows:]

* * * When the agency receives authorization to use a penalty permit imprint number, a Form 3615 must be submitted to the Post Office where mailings will be entered.* * *

* * * * *

7.8.5 GPO Contractor

An agency mailing submitted by a GPO contractor may contain nonidentical-weight pieces or more than one class of mail, if:

* * * * *

[Revise item 7.8.5c as follows:]

c. A completed postage statement appropriate for each class of mail is submitted to the entry Post Office for each mailing, in duplicate if the contractor wants a copy.

[Delete current item 7.8.5d and redesignate current item 7.8.5e as new item 7.8.5d.]

* * * * *

7.9 Penalty Postage Stationery

* * * * *

7.9.7 Exchanges

[Revise 7.9.7 as follows:]

Incorrectly shipped items or items damaged in shipping or defective or otherwise unserviceable may be exchanged as provided in 604.9.

* * * * *

7.12 Penalty Merchandise Return Service

* * * * *

7.12.4 Application

[Revise the first sentence of 7.12.4 as follows:]

An agency must apply by letter to the Corporate Accounting Manager, USPS Headquarters (608.8.0), to use merchandise return labels. * * *

* * * * *

705 Advanced Preparation and Special Postage Payment Systems

* * * * *

2.0 Manifest Mailing System

* * * * *

2.3 Keyline

* * * * *

2.3.3 Price Category Abbreviations

* * * * *

b. Standard Mail:

Exhibit 2.3.3b Price Category Abbreviations—Standard Mail

[Revise the wording in the column headed “PRICE CATEGORY” in the block that corresponds to the CODE “EH” to read: “Enhanced Carrier Route High Density or High Density Plus”.]

* * * * *

8.0 Preparing Pallets

* * * * *

8.10 Pallet Presort and Labeling

8.10.1 First-Class Mail—Letter or Flat Trays

* * * Preparation, sequence, and labeling:

* * * * *

[Revise the second sentence of the introductory paragraph of item 10.1b as follows:]

b. * * * Mailers may place AADC or ADC trays on origin SCF pallets when the tray's “label to” 3-digit ZIP Code (from L801 for AADC trays and L004 for ADC trays) is within the origin SCF's service area; and must place trays containing pieces paid at the single-piece price on origin SCF pallets, unless required to be presented separately by special postage payment authorization or customer service agreement (CSA).* * *

* * * * *

[Revise item 10.1b2 as follows:]

2. Line 2: “FCM LTRS” or “FCM FLTS,” followed by “WKG.”

* * * * *

8.10.3 Standard Mail or Parcel Select Lightweight—Bundles, Sacks, or Trays

* * * * *

[Revise the current third sentence and add a new fourth sentence of the introductory text as follows:]

* * * For parcels, use this preparation only for irregular parcels in sacks or Marketing parcels prepared as Product Samples in carrier route bundles, sacks or cartons. For Product Samples, only 5-digit pallets under 8.10.3b and 3-digit pallets under 8.10.3d are allowed, and the pallets must be entered under DNDC or DSCF standards only. * * * Preparation sequence and labeling:

[Revise item 8.10.3a as follows:]

a. 5-digit scheme carrier routes, required, permitted for bundles of flats only. Pallet must contain only carrier route bundles for the same 5-digit scheme under L001. Labeling:

1. Line 1: L001.

2. Line 2: “STD” followed by “FLTS”; followed by “CARRIER ROUTES” (or “CR-RTS”); followed by “SCHEME” (or “SCH”).

[Revise item 8.10.3b as follows:]

b. 5-digit carrier routes, required except for trays, permitted for bundles, sacks, trays, and cartons. Pallet must contain only carrier route mail for the same 5-digit ZIP Code. Labeling:

1. Line 1: City, state, and 5-digit ZIP Code destination (see 8.6.4c for overseas military mail).

2. Line 2: For flats and Marketing parcels (Product Samples only), “STD FLTS” or “STD MKTG,” as applicable; followed by “CARRIER ROUTES” (or “CR-RTS”). For letters, “STD LTRS”; followed by “CARRIER ROUTES” (or “CR-RTS”); followed by “BC” if pallet contains barcoded letters; followed by “MACH” if pallet contains machinable letters; followed by “MAN” if pallet contains nonmachinable letters.

* * * * *

[Revise item 8.10.3d as follows:]

d. 3-digit, optional, option not available for parcels other than Product Sample parcels or for bundles for 3-digit ZIP Code prefixes marked “N” in L002. Pallet may contain mail for the same 3-digit ZIP Code or the same 3-digit scheme under L008 (for automation-compatible flats only under 301.3.0). Three-digit scheme bundles are assigned to pallets according to the “label to” 3-digit ZIP Code in L008. Labeling:

1. Line 1: L002, Column A.

2. Line 2: For flats, “STD” followed by “FLTS;” followed by “3D”; followed by “BARCODED” (or “BC”) if pallet contains automation price mail; followed by “NONBARCODED” (or “NBC”) if pallet contains carrier route and/or Presorted price mail. For letters, “STD LTRS 3D”; followed by “BC” if pallet contains barcoded letters; followed by “MACH” if pallet contains machinable letters; followed by “MAN” if pallet contains nonmachinable letters. For Marketing parcels (Product Samples only), use “STD MKTG.”

* * * * *

[Revise the introductory paragraph of item 10.3h as follows:]

h. Mixed NDC, optional, permitted for sacks and trays only. Pallet may contain carrier route, automation, and/or Presorted mail. Mailers must place trays and sacks containing pieces paid at the single-piece price on the mixed NDC pallet (unless required to be presented separately by special postage payment authorization). Labeling: * * *

* * * * *

[Add new item 26.0 as follows:]

26.0 Alaska Bypass Service

26.1 Prices

Alaska Bypass Service prices are calculated based on the zone to which the shipment is addressed and the weight of the shipment. See Notice123—Price List for prices.

26.2 Price Eligibility

Requirements for Alaska Bypass Service are provided in Handbook PO 508.

* * * * *

707 Periodicals

1.0 Prices and Fees

* * * * *

1.4 Fees

[Revise the text of 1.4 as follows:]

Periodicals fees are per application for original entry, news agent registry, and reentry. See Notice 123—Price List.

* * * * *

3.0 Physical Characteristics and Content Eligibility

* * * * *

3.2 Addressing

* * * * *

3.2.3 Return Address

[Revise the text of 3.2.3 as follows:]

The return address must appear on any mailing wrapper (see 3.3.7) of a publication with the optional ancillary service endorsement “Address Service Requested” and on any opaque wrapper of a publication. If a clear plastic wrapper is used on a publication endorsed “Address Service Requested,” the return address must appear visibly anywhere on the address side of the wrapper or the topmost item inside.

* * * * *

3.3.7 Mailing Wrapper

[Revise the first sentence of 3.3.7 as follows:]

A mailing wrapper is an envelope, sleeve, partial wrapper, polywrap, or carton used to enclose the mailpiece.* * *

* * * * *

3.6 Printed Features

3.6.1 Publication Title and Address Notice

[Revise the second and third sentences of 3.6.1 as follows:]

* * * On any publication enclosed in an opaque mailing wrapper, carton or any wrapper when the title of the publication is not prominently displayed through the wrapper or carton, the publication title and the mailing address to which undeliverable copies or change-of-address notices (see 4.12.5h) are to be sent must be shown in the upper left corner of the address side of the mailing wrapper (see 3.3.7). A publication with a clear wrapper and a prominently displayed publication title need not have the return mailing address on the wrapper unless required under 3.2.5.

3.6.2 Periodicals Imprint

[Revise the first sentence of 3.6.2 as follows:]

Mailing wrappers (see 3.3.7) that completely enclose the host publication must bear the Periodicals imprint “Periodicals Postage Paid at * * *” or the word “Periodicals” in the upper right corner of the address area.* * *

* * * * *

6.0 Qualification Categories

* * * * *

6.4 Requester Publications

6.4.1 Basic Standards

A publication, whether circulated free or to subscribers, may be authorized Periodicals prices if it meets the basic standards in 4.0 and:

[Revise item 6.4.1b as follows:]

b. Contains more than 75% advertising in no more than 25% of the issues published during any 12-month period.

* * * * *

[Revise the title and text of 30.0 as follows:]

30.0 Additional Mailing Offices

30.1 Basic Standards

30.1.1 Facility

The additional mailing office must be a Post Office.

30.1.2 Definition

Except for publications authorized an alternative payment method, the verification Post Office is also the office where Periodicals postage is paid.

30.1.3 Postage

Postage must be prepaid or available for all copies presented for verification at an additional mailing office before the mail can be released.

30.2 Additional Standards

Approved Periodicals publications may be mailed at any additional mailing office that is linked to PostalOne!. Publishers who wish to present Periodicals for verification at additional mailing offices without access to PostalOne! must file a PS Form 3510A application indicating that mailings will be presented at these offices. Publishers of publications pending approval must submit PS Form 3510A applications with their original entry application for all mailing offices where mail will be submitted during the pending period.

* * * * *

708 Technical Specifications

1.0 Standardized Documentation for First-Class Mail, Periodicals, Standard Mail, and Flat-Size Bound Printed Matter

* * * * *

1.3 Price Level Column Headings

The actual name of the price level (or abbreviation) is used for column headings required by 1.2 and shown below:

* * * * *

c. Carrier Route Periodicals and Enhanced Carrier Route Standard Mail:

[Revise the table in 1.3c by adding a new third row as follows:]

Price | Abbreviation
* * * * *
High Density Plus [Standard Mail only; letters and flats] | HDP

* * * * *

6.0 Standards for Barcoded Tray Labels, Sack Labels, and Container Placards

* * * * *

6.2 Specifications for Barcoded Tray and Sack Labels

* * * * *

6.2.4 3-Digit Content Identifier Numbers

* * * * *

Exhibit 6.2.4 3-Digit Content Identifier Numbers

* * * * *

STANDARD MAIL

ECR Letters—Barcoded

[Revise the second row, first column to read as follows:]

High density or high density plus price

* * * * *

ECR Letters—Nonautomation (Machinable)

[Revise the second row, first column to read as follows:]

High density or high density plus price

* * * * *

ECR Letters—Nonautomation (Nonmachinable)

[Revise the second row, first column to read as follows:

High density or high density plus price

* * * * *

Enhanced Carrier Route Flats—Nonautomation

[Revise the second row, first column to read as follows:]

High density or high density plus price sacks

* * * * *

We will publish an appropriate amendment to 39 CFR part 111 to reflect these changes.

* * * * *

Stanley F. Mires,
Attorney, Legal Policy & Legislative Advice.

[FR Doc. 2012-30256 Filed 12-19-12; 8:45 am]

BILLING CODE 7710-12-P